DEPARTMENT OF DEFENSE

Department of the Army, Corps of Engineers

Occupational Safety and Health Programs for Federal Employees

AGENCY: Army Corps of Engineers, DoD.

ACTION: Notice; reopening of comment period.

SUMMARY: The U.S. Army Corps of Engineers (USACE) Safety and Health Requirements Manual (EM 385-1-1) is the gold standard for Safety and Occupational Health regulations. The manual holds a long history dating back to 1941 and is designed to facilitate the standardization of all safety programs. The EM 385-1-1 prescribes the safety and health requirements for all Corps of Engineers activities and operations. The USACE is soliciting comments on the proposed revisions to EM 385-1-1. USACE intends to update the manual and periodically thereafter, to reflect such public input, experience, and innovation. The agency will address significant comments received in the next revision of this manual.

DATES: Consideration will be given to all comments received by August 8, 2022.

ADDRESSES: You may submit comments, identified by docket number COE-2019-0015, by any of the following methods:

Federal eRulemaking Portal: http://www.regulations.gov. Follow the instructions for submitting comments.

Mail: Safety and Occupational Health Office, Headquarters, U.S. Army Corps of Engineers, 441 G Street NW, Washington, DC 20314.

Hand Delivery/Courier: Due to security requirements, we cannot receive comments by hand delivery or courier.

Instructions: If submitting comments through the Federal eRulemaking Portal, direct your comments to docket number COE-2019-0015. All comments received will be included in the public docket without change and may be made available on-line at http://www.regulations.gov, including any personal information provided, unless the commenter indicates that the comment includes information claimed to be Confidential Business Information (CBI) or other information whose disclosure is restricted by statute. Do not submit information that you consider to be CBI, or otherwise protected, through regulations.gov or email. The regulations.gov website is an anonymous access system, which means we will not know your identity or contact information unless you provide it in the body of your comment. If you send an email directly to the Corps without going through regulations.gov your email address will be automatically captured and included as part of the comment that is placed in the public docket and made available on the internet. If you submit an electronic comment we recommend that you include your name and other contact information in the body of your comment and with any compact disc you submit. If we cannot read your comment because of technical difficulties and cannot contact you for clarification we may not be able to consider your comment. Electronic comments should avoid the use of any special characters, any form of encryption, and be free of any defects or viruses.

Docket: For access to the docket to read background documents or comments received, go to regulations.gov. All documents in the docket are listed. Although listed in the index, some information is not publicly available, such as CBI or other information whose disclosure is restricted by statute. Certain other material, such as copyrighted material, is not placed on the internet and will be publicly available only in hard copy form.

FOR FURTHER INFORMATION CONTACT: William Eggleston, Headquarters, U.S. Army Corps of Engineers, Safety and Occupational Health Office, in Washington, DC at 202-909-9367.

SUPPLEMENTARY INFORMATION: Executive Order (E.O.) 12196, Occupational Safety and Health Programs for Federal Employees, Executive Order 11988, Floodplain Management, was issued in 1980 and directed agencies heads to (1) Furnish to employees places and conditions of employment that are free from recognized hazards that are causing or are likely to cause death or serious physical harm; (2) Operate an occupational safety and health program in accordance with the requirements of this order and basic program elements promulgated by the Secretary. DoDI 6055.1 was issued in 2014 (incorporated changes in 2018) and the DoD policy applies to all Military Departments to:

1. Protect DoD personnel from accidental death, injury, or occupational illness.

1. Protect DoD personnel from accidental death, injury, or occupational illness.

2. Apply this instruction to all personnel at all operations worldwide with certain limitations.

3. Apply risk management strategies to eliminate occupational injury or illness and loss of mission capability and resources both on and off duty.

4. Use SOH management systems across all military operations and activities, including acquisition, procurement, logistics, and facility management.

5. Apply this instruction to off-duty military personnel, except for OSHA standards

Following issuance of DoD Safety and Occupational Health (SOH) Program DODI 6055.01; the AR-385-10, Army Safety Program implements the requirements of the Occupational Safety and Health Act of 1970 as implemented in E.O. 12196; 29 CFR 1960; DODI 6055.1; DoDI6055.4; and DoDI6055.7. It provides new policy on Army safety management procedures with special emphasis on responsibilities and organizational concepts. AR 385-10 is applicable to the Active Army, the Army National Guard/Army National Guard of the United States, and the U.S. Army Reserve, unless otherwise stated. It also applies to Army civilian employees and the U.S. Army.

Following the issuance of the AR-385-10; the EM 385-1-1 U.S. Army Corps of Engineers Safety and Health Requirements Manual prescribes the safety and health requirements for all Corps of Engineers activities and operations. The manual applies to Headquarters, U.S. Army Corps of Engineers (HQUSACE) elements, major subordinate commands, districts, centers, laboratories, and field operating activities (FOA), as well as USACE contracts and those administered on behalf of USACE. Applicability extends to occupational exposure for missions under the command of the Chief of Engineers, whether accomplished by military, civilian, or contractor personnel.

Instructions for Providing Comments

USACE is requesting assistance in the form of data, comments, literature references, or field experiences, to help clarify the policy requirements for implementing Safety and Occupational Health activities for both Corps and contractor personnel. The draft version of the Safety and Health Requirements Manual (EM 385-1-1, April 2022) is available for review on the USACE Publications website: https://usace.contentdm.oclc.org/utils/getfile/collection/p16021coll9/id/2559. While USACE welcomes any and all feedback on this Engineering Manual, detailed responses to the questions provided will be particularly helpful to USACE in clarifying, revising, adding, or deleting information in a particular area/section/chapter. The most useful comments will be derived from on-the-job experiences that are covered within the topics of the manual. Commenters should use their knowledge of working with USACE on various types of federal actions as well as their understanding of consensus standards and other federal Safety and Health regulations.

Future Actions

Feedback and comments provided through this notice will be considered and the draft version of the Safety and Health Requirements Manual (EM 385-1-1, April 2022) will be updated as appropriate. When the manual is finalized and published on the USACE Safety and Occupational Health Office website https://www.usace.army.mil/Missions/Safety-and-Occupational-Health/, and the document itself will be made available through the typical U.S. Army publication process.

Dated: June 2, 2022.
Martin C. Jung,
COL, EN, Acting Chief of Staff.

[FR Doc. 2022-12422 Filed 6-8-22; 8:45 am]

BILLING CODE 3720-58-P